DEPARTMENT OF HOUSING AND URBAN DEVELOPMENT

[Docket No. FR-6211-N-01]

Housing Trust Fund Federal Register Allocation Notice

AGENCY: Office of the Assistant Secretary for Community Planning and Development, HUD.

ACTION: Notice of Fiscal Year 2020 Funding Awards.

SUMMARY: The Housing and Economic Recovery Act of 2008 (HERA) established the Housing Trust Fund (HTF) to be administered by HUD. Pursuant to the Federal Housing Enterprises Financial Security and Soundness Act of 1992 (the Act), as amended by HERA, Division A, eligible HTF grantees are the 50 states, the District of Columbia, the Commonwealth of Puerto Rico, American Samoa, Guam, the Commonwealth of Northern Mariana Islands, and the United States Virgin Islands. In accordance with Section 1338 (c)(4)(A) of the Act, this notice announces the formula allocation amount for each eligible HTF grantee.

FOR FURTHER INFORMATION CONTACT: Virginia Sardone, Director, Office of Affordable Housing Programs, Room 7164, Department of Housing and Urban Development, 451 Seventh Street SW, Washington, DC 20410-7000; telephone (202) 708-2684. (This is not a toll-free number.) A telecommunications device for hearing- and speech-impaired persons (TTY) is available at 800-877-8339 (Federal Information Relay Service). (This is a toll-free number).

SUPPLEMENTARY INFORMATION: Section 1131 of HERA Division A amended the Act to add a new section 1337 entitled “Affordable Housing Allocations” and a new section 1338 entitled “Housing Trust Fund.” HUD's implementing regulations are codified at 24 CFR part 93. Congress authorized the HTF with the stated purpose of: (1) Increasing and preserving the supply of rental housing for extremely low-income families with incomes between 0 and 30 percent of area median income and very low-income families with incomes between 30 and 50 percent of area median income, including homeless families, and (2) increasing homeownership for extremely low-income and very low-income families. Section 1337 of the Act provides for the HTF (and other programs) to be funded with an affordable housing set-aside by Fannie Mae and Freddie Mac. The total set-aside amount is equal to 4.2 basis points (.042 percent) of Fannie Mae and Freddie Mac's new mortgage purchases, a portion of which is for the HTF. Section 1338 of the Act directs HUD to establish, through regulation, the formula for distribution of amounts made available for the HTF. The statute specifies the factors to be used for the formula and priority for certain factors. The factors and methodology HUD uses to allocate HTF funds among eligible grantees are established in the HTF regulation. The funding announced for Fiscal Year 2020 through this notice is $322,564,267.66. Appendix A to this notice provides the names of the grantees and the amounts of the awards.

Dated: April 24, 2020.
John Gibbs,
Acting Assistant Secretary for Community Planning and Development.

Appendix A: FY 2020 Housing Trust Fund Allocation Amounts

Grantee | FY 2020 allocation
1 Alabama | $3,123,706
2 Alaska | 3,000,000
3 Arizona | 5,070,454
4 Arkansas | 3,000,000
5 California | 50,839,161.66
6 Colorado | 4,411,358
7 Connecticut | 3,750,859
8 Delaware | 3,000,000
9 District of Columbia | 3,000,000
10 Florida | 14,371,181
11 Georgia | 7,361,716
12 Hawaii | 3,000,000
13 Idaho | 3,000,000
14 Illinois | 12,424,008
15 Indiana | 4,644,564
16 Iowa | 3,000,000
17 Kansas | 3,000,000
18 Kentucky | 3,152,170
19 Louisiana | 3,609,159
20 Maine | 3,000,000
21 Maryland | 4,420,359
22 Massachusetts | 7,039,756
23 Michigan | 7,364,581
24 Minnesota | 4,078,002
25 Mississippi | 3,000,000
26 Missouri | 4,668,023
27 Montana | 3,000,000
28 Nebraska | 3,000,000
29 Nevada | 3,142,533
30 New Hampshire | 3,000,000
31 New Jersey | 10,037,054
32 New Mexico | 3,000,000
33 New York | 29,127,880
34 North Carolina | 7,251,897
35 North Dakota | 3,000,000
36 Ohio | 8,755,082
37 Oklahoma | 3,000,000
38 Oregon | 4,399,904
39 Pennsylvania | 9,729,334
40 Rhode Island | 3,000,000
41 South Carolina | 3,438,676
42 South Dakota | 3,000,000
43 Tennessee | 4,334,563
44 Texas | 16,617,908
45 Utah | 3,000,000
46 Vermont | 3,000,000
47 Virginia | 6,168,999
48 Washington | 6,491,663
49 West Virginia | 3,000,000
50 Wisconsin | 4,860,636
51 Wyoming | 3,000,000
52 Puerto Rico | 1,513,904
53 America Samoa | 16,404
54 Guam | 132,691
55 Northern Marianas | 73,048
56 Virgin Islands | 143,034
Total | 322,564,267.66

[FR Doc. 2020-09058 Filed 4-28-20; 8:45 am]

BILLING CODE 4210-67-P